DEPARTMENT OF HEALTH AND HUMAN SERVICES

National Institutes of Health

National Institute on Deafness and Other Communication Disorders; Amended Notice of Meeting

Notice is hereby given of a change in the meeting of the National Deafness and Other Communication Disorders Advisory Council, September 21, 2001, 8:30 am to September 21, 2001, 3 p.m., 45 Center Drive, Natcher, Bldg., Conf. Rms. A & D, Bethesda, MD, 20892 which was published in the Federal Register on August 23, 2001, 66 FR 44366.

This meeting will be held by teleconference to review grant applications. The meeting is closed to the public.

Dated: September 21, 2001.
LaVerne Y. Stringfield,
Director, Office of Federal Advisory Committee Policy.

[FR Doc. 01-24360 Filed 9-27-01; 8:45 am]

BILLING CODE 4140-01-M